DEPARTMENT OF ENERGY

Federal Energy Regulatory Commission

[Project No. 2042-191]

Public Utility District No. 1 of Pend Oreille County, Washington; Notice of Availability of Environmental Assessment

In accordance with the National Environmental Policy Act of 1969 and the Federal Energy Regulatory Commission's (Commission) regulations, 18 CFR part 380, the Office of Energy Projects has reviewed an application submitted by Public Utility District No. 1 of Pend Oreille County, Washington to amend the license for the Box Canyon Project No. 2042, and has prepared an Environmental Assessment (EA) for the proposed amendment. The licensee proposes an amendment of the project license to be consistent with the terms of an Amended Settlement Agreement and to incorporate revised mandatory conditions submitted by the U.S. Department of the Interior under section 4(e) and section 18 of the Federal Power Act. The project is located on the Pend Oreille River in Pend Oreille County, Washington, and Bonner County, Idaho and occupies lands within the Kalispel Indian Reservation and lands within the Colville National Forest.

The EA contains Commission staff's analysis of the potential environmental effects of the proposed amendment to the license, and concludes that the proposed amendment, with appropriate environmental protective measures, would not constitute a major federal action that would significantly affect the quality of the human environment.

The EA may be viewed on the Commission's website at www.ferc.gov using the “eLibrary” link. Enter the docket number (P-2042) in the docket number field to access the document. At this time, the Commission has suspended access to the Commission's Public Reference Room due to the proclamation declaring a National Emergency concerning the Novel Coronavirus Disease (COVID-19), issued by the President on March 13, 2020. For assistance, contact FERC Online Support at FERCOnlineSupport@ferc.gov or toll-free at 1-866-208-3676, or for TTY, (202) 502-8659. You may also register online at www.ferc.gov/docs-filing/esubscription.asp to be notified via email of new filings and issuances related to this or other pending projects. For assistance, contact FERC Online Support.

For further information, contact Holly Frank at (202) 502-6833, or by email at holly.frank@ferc.gov.

Dated: June 25, 2021.
Kimberly D. Bose,
Secretary.

[FR Doc. 2021-14066 Filed 6-30-21; 8:45 am]

BILLING CODE 6717-01-P